DEPARTMENT OF ENERGY

Office of Energy Efficiency and Renewable Energy

10 CFR Part 430

[Docket Number: EE-RM/STD-01-375]

RIN: 1904-AB06

Energy Efficiency Program for Consumer Products: Energy Conservation Standards for Commercial Unitary Air Conditioners and Heat Pumps

AGENCY: Office of Energy Efficiency and Renewable Energy, Department of Energy.

ACTION: Notice of public workshop and availability of the framework document for commercial unitary air conditioner and heat pump efficiency standards.

SUMMARY: The Department of Energy (DOE or Department) will hold an informal public workshop to discuss and receive comments on issues it will address and initiate the data collection process for the commercial unitary air conditioner and heat pump efficiency standards. The data collected will be used in considering the adoption of American Society of Heating, Refrigerating and Air-Conditioning Engineers, Inc. (ASHRAE)/Illuminating Engineering Society of North America (IESNA) Standard 90.1-1999 or initiating amended energy conservation standards for commercial unitary air conditioners and heat pumps. This effort is based on the recommendations as addressed in the May 2001, National Energy Policy report which supports the appliance standards program for covered products, setting higher standards where technologically feasible and economically justified. The Department also encourages written comments on these subjects. To facilitate this process, the Department has prepared a Framework Document, a draft of which was made available on June 18, 2001.

DATES: The public workshop will be held on Wednesday, September 12, 2001, from 9:00 a.m. to 5:00 p.m. Written comments should be submitted by October 12, 2001.

ADDRESSES: The workshop will be held at the U.S. Department of Energy, Forrestal Building, Room 1E-245, 1000 Independence Avenue, SW, Washington, DC 20585. (Please note that foreign nationals visiting DOE Headquarters are subject to advance security screening procedures. If you are a foreign national and wish to participate in the workshop, please inform DOE of this fact as soon as possible by contacting Ms. Brenda Edwards-Jones at (202) 586-2945 so that the necessary procedures can be completed.)

On June 18, 2001, the draft Framework Document was placed on the DOE website at: http://www.eren.doe.gov/buildings/codes_standards/index.htm

Written comments are welcome, especially following the workshop. Please submit written comments to: Ms. Brenda Edwards-Jones, U.S. Department of Energy, Office of Energy Efficiency and Renewable Energy, Energy Conservation Program for Consumer Products: Energy Conservation Standards for Commercial Unitary Air Conditioners and Heat Pumps, Docket Number: EE-RM/STD-01-375, EE-41, 1000 Independence Avenue, SW, Washington, DC 20585-0121. Telephone: (202) 586-2945; Telefax: (202) 586-4617. You should label comments both on the envelope and on the documents and submit them for DOE receipt by October 12, 2001. Please submit one signed copy and a computer diskette (WordPerfect 8) or 10 copies (no telefacsimiles). The Department will also accept electronically-mailed comments, e-mailed to Brenda.Edwards-Jones@ee.doe.gov, but you must supplement such comments with a signed hard copy.

Copies of the transcript of the public workshop, the public comments received, the Framework Document, and this notice may be read at the Freedom of Information Reading Room, U.S. Department of Energy, Forrestal Building, Room 1E-190, 1000 Independence Avenue, SW, Washington, DC 20585, (202) 586-3142, between the hours of 9 a.m. and 4 p.m., Monday through Friday, except Federal holidays.

FOR FURTHER INFORMATION CONTACT: Bryan Berringer, U.S. Department of Energy, Office of Energy Efficiency and Renewable Energy, EE-41, 1000 Independence Avenue, SW, Washington, DC 20585-0121, (202) 586-0371, email: bryan.berringer@ee.doe.gov, or Francine Pinto, U.S. Department of Energy, Office of General Counsel, GC-72, 1000 Independence Avenue, SW, Washington, DC 20585-0103, (202) 586-7432, email: francine.pinto@hq.doe.gov

SUPPLEMENTARY INFORMATION: The May 2001, National Energy Policy report by the National Energy Policy Development Group (NEPD Group) recommends support for the appliance standards program for covered products, setting higher standards where technologically feasible and economically justified. The Energy Policy and Conservation Act, Pub. L. 94-163, as amended by the Energy Policy Act of 1992 (EPACT), Pub. L. 102-486, establishes energy efficiency standards for certain commercial heating and air conditioning equipment which includes commercial unitary air conditioners and heat pumps. On October 29, 1999, the efficiency standards found in American Society of Heating, Refrigerating and Air-Conditioning Engineers, Inc. (ASHRAE)/Illuminating Engineering Society of North America (IESNA) Standard 90.1-1999 (ASHRAE/IESNA Standard 90.1-1999) were amended for these products. On March 1, 2000, the Department published a notice of preliminary screening analysis to decide which of the ASHRAE/IESNA Standard 90.1-1999 standards should be adopted immediately and which to analyze further. 65 FR 10984. On January 12, 2001, the Department published a final rule adopting the ASHRAE/IESNA Standard 90.1-1999 level for 18 product categories and made a decision to further evaluate other products. 66 FR 3336. In the final rule, DOE determined that further analysis was warranted for commercial unitary air conditioners and heat pumps. This conclusion was based on DOE's screening analysis. The Department is considering more stringent standards than those adopted by ASHRAE/IESNA Standard 90.1-1999.

Today's notice, the subject Framework Document, and workshop mark the next steps in collecting additional data to determine whether to adopt ASHRAE/IESNA Standard 90.1-1999 or amend the energy conservation standards for commercial unitary air conditioners and heat pumps covered by the statute.

The Department has prepared the Framework Document to explain and discuss the process, analyses, and issues concerning the development of such standards. For many of the issues and analyses, the Framework Document sets forth approaches that the Department is considering.

The main focus of the workshop will be to discuss the analyses and issues contained in various sections of the Framework Document. For each item listed, the Department will make a presentation with discussion to follow. In addition, the Department will also make a brief presentation on the rulemaking process for commercial unitary air conditioners and heat pumps. The Department encourages those who wish to participate in the workshop to obtain the Framework Document and be prepared to discuss its contents. However, workshop participants need not limit their discussions to these topics. The Department is also interested in receiving views concerning other issues that participants believe would affect energy conservation standards for commercial unitary air conditioners and heat pumps. The Department also welcomes all interested parties, whether or not they participate in the workshop, to submit in writing by October 12, 2001, comments and information on the matters addressed in the Framework Document and on other matters relevant to consideration of standards for commercial unitary air conditioners and heat pumps.

The workshop will be conducted in an informal, conference style. A court reporter will be present to record the minutes of the meeting. There shall be no discussion of proprietary information, costs or prices, market shares, or other commercial matters regulated by the U.S. antitrust laws.

After the workshop and expiration of the period for submitting written statements, the Department will begin collecting data and conducting the analyses as discussed at the workshop and in consideration of the comments received.

If you would like to participate in the workshop, receive workshop materials, or be added to the DOE mailing list to receive future notices and information regarding commercial unitary air conditioners and heat pumps, please contact Ms. Brenda Edwards-Jones at (202) 586-2945.

Issued in Washington, DC, on August 13, 2001.
David K. Garman,
Assistant Secretary for Energy Efficiency and Renewable Energy.

[FR Doc. 01-20771 Filed 8-16-01; 8:45 am]

BILLING CODE 6450-01-P